DEPARTMENT OF ENERGY

Federal Energy Regulatory Commission

Granite State Gas Transmission, Inc.; Notice of Compliance Filing

December 14, 2000.

Take notice that on December 8, 2000, Granite State Gas Transmission, Inc. (Granite State) tendered for filing as part of its FERC Gas Tariff, Third Revised Volume No. 1, Original Tariff Sheet No. 340 and Fourth Revised Sheet Nos. 341-399, to be effective November 1, 2000.

Granite State states that the purpose of the filing is to comply with the requirements of the order issued on November 9, 2000, in Docket No. RP01-58-000 and Order No. 587-L with respect ot the netting and trading of imbalances by shippers.

Granite State states that copies of this filing have been sent to Granite State's shippers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32355 Filed 12-19-00; 8:45 am]

BILLING CODE 6717-01-M